DEPARTMENT OF ENERGY

10 CFR Part 821

[DOE-HQ-2025-0175]

RIN 1901-AB73

Implementing Voluntary Agreements Under the Defense Production Act

AGENCY: Office of Nuclear Energy, U.S. Department of Energy.

ACTION: Notice of public meeting.

SUMMARY: The U.S. Department of Energy (DOE or the Department) announces a public meeting to discuss the development of voluntary agreements and plans of action under the Defense Production Act. The Defense Production Act requires that the announcement of such meetings occur through the Federal Register at least seven days prior to the meeting. This notice is intended to satisfy this requirement.

DATES: DOE will hold a public meeting on Thursday, October 23, 2025, from 10:00 a.m. to 11:00 a.m. in Washington, DC. The public meeting will also be broadcast as a webinar.

ADDRESSES: The public meeting will be held at the Nuclear Energy Institute (NEI). NEI is located at 1201 F Street NW, Washington, DC 20024. Please see the Public Participation section of this notice for additional information on attending the public meeting, including webinar registration information, participant instructions, and information about the capabilities available to webinar participants.

FOR FURTHER INFORMATION CONTACT: Ms. Sarah McPhee Charrez, U.S. Department of Energy, 1000 Independence Avenue SW, Washington, DC 20585. Telephone: (202) 586-1092. Email: DPAconsortium@nuclear.energy.gov.

SUPPLEMENTARY INFORMATION: On August 25, 2025, the Department of Energy (“DOE”) published an interim final rule to codify procedures for implementing voluntary agreements pursuant to section 708 of the Defense Production Act of 1950 (“DPA”), Public Law 81-774 (Sept. 8, 1950) (codified at 50 U.S.C. 4558). See 90 FR 41279. As explained in that notice, DOE has codified its procedures consistent with recent Executive orders related to nuclear energy and a Presidential declaration of a national energy emergency. See Executive Order (“E.O.”) 14302 (Reinvigorating the Nuclear Industrial Base), 90 FR 22595 (May 29, 2025) and E.O. 14156 (Declaring a National Energy Emergency), 90 FR 8433 (Jan. 29, 2025). Consistent with the DPA's provisions and DOE's related rule, this notice announces a public meeting that will be held on Thursday, October 23, 2025, from 10:00 a.m. to 11:00 a.m. in Washington, DC at the Nuclear Energy Institute (NEI). NEI is located at 1201 F Street NW, Washington, DC 20024. The public meeting will also be broadcast as a webinar.

Meetings Closed to the Public: By default, the DPA requires meetings held to implement a voluntary agreement or plan of action to be open to the public. However, attendance may be limited if DOE finds that the matter to be discussed at a meeting falls within the purview of 5 U.S.C. 552(b)(1), (3), and (4), as well as 5 U.S.C. 552b(c), such as matters of authorized or ordered to be kept secret in the interest of national defense or foreign policy, trade secrets, and commercial or financial information.

Consistent with the DPA's provisions and DOE's regulations set forth at 10 CFR part 821, DOE will subsequently hold a closed meeting on Thursday, October 23, 2025, promptly commencing at 11:05 a.m. in Washington, DC, at the Nuclear Energy Institute (NEI) (“closed meeting”). DOE has determined that the matters to be discussed at the closed meeting fall within the purview of 5 U.S.C. 552(b)(1), (3), and (4), as well as 5 U.S.C. 552b(c), as appropriate. Accordingly, DOE will restrict attendance at the closed meeting and will withhold all closed meeting materials as exempt from public disclosure on the aforementioned grounds.

Public Participation

Attendance at Public Meeting

The times, dates, and locations of the public meeting are listed in the DATES and ADDRESSES sections of this document. If you plan to attend the public meeting, please notify the Office of Nuclear Energy staff at DPAconsortium@nuclear.energy.gov.

In addition, you can attend the public meeting via webinar. Webinar registration information, participant instructions, and information about the capabilities available to webinar participants will be published on DOE's website: www.energy.gov/ne/defense-production-act-consortium. Participants are responsible for ensuring their systems are compatible with the webinar software.

Conduct of Public Meeting

A designated Federal Officer will preside at the public meeting and may also use a professional facilitator to aid discussion. The meeting will not be a judicial or evidentiary-type public hearing. The meeting will be hybrid, online and at the offices of the Nuclear Energy Institute (NEI), 1201 F St. NW, Washington, DC 20024. Consortium participants will receive an official invite, while members of the public may access the link on the DOE DPA Consortium's web page: www.energy.gov/ne/defense-production-act-consortium.

Docket

The docket is available for review at www.regulations.gov/docket/DOE-HQ-2025-0175, including Federal Register notices, public meeting attendee lists and transcripts, comments, and other supporting documents/materials. All documents in the docket are listed in the www.regulations.gov index. However, not all documents listed in the index may be publicly available, such as information that is exempt from public disclosure.

Signing Authority

This document of the Department of Energy was signed on October 9, 2025, by Theodore Garrish, Assistant Secretary for Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 9, 2025.
Treena V. Garrett,
Federal Register Liaison Officer, U.S. Department of Energy.

[FR Doc. 2025-19541 Filed 10-14-25; 8:45 am]

BILLING CODE 6450-01-P